DEPARTMENT OF TRANSPORTATION

Federal Transit Administration

[Docket No: FTA-2007-23697]

Public-Private Partnership Pilot Program

AGENCY: Federal Transit Administration (FTA), DOT.

ACTION: Notice of extension of date by which FTA shall respond to public comments on the establishment and implementation of the Public-Private Partnership Pilot Program.

SUMMARY: FTA is extending the date by which it indicated it would respond to comments received on the establishment and implementation of the Public-Private Partnership Pilot Program.

DATES: FTA will respond to comments received on the establishment and implementation of the Public-Private Partnership Pilot Program no later than April 30, 2007.

FOR FURTHER INFORMATION CONTACT: David B. Horner, Esq., Chief Counsel, Federal Transit Administration, U.S. Department of Transportation, 400 Seventh Street, SW., Washington, DC 20590-0001, (202) 366-4040, david.horner@dot.gov. Office hours are from 8:30 a.m. to 5 p.m., Monday through Friday, except Federal holidays.

SUPPLEMENTARY INFORMATION: On March 22, 2006, FTA issued a notice soliciting comments and expressions of preliminary interest with respect to the Secretary of Transportation's establishment and implementation of FTA's Public-Private Partnership Pilot Program (the Pilot Program) (71 FR 14568). FTA received comments from nineteen parties in response to this notice. On January 19, 2007, FTA issued a Notice of Establishment of Public-Private Partnership Pilot Program, which set forth the definitive terms of the Pilot Program and invited interested parties to submit applications to the Pilot Program by March 31, 2007 (72 FR 2583). In this notice, FTA indicated that it would, by separate notice, summarize and respond to comments on the March 22, 2006 notice no later than March 31, 2007.

The volume of work underway within FTA has prevented publication of response to comments by the date previously indicated. Therefore, FTA intends to summarize and respond to comments on the March 22, 2006 notice no later than April 30, 2007.

This notice does not affect the application deadlines to the Pilot Program. Therefore, to be considered in FTA's first quarterly review of applications to the Pilot Program, applications must be received by FTA on or before March 31, 2007. Applications received by FTA between March 31, 2007, and July 1, 2007, will be reviewed in FTA's second quarterly review of applications to the Pilot Program.

Issued in Washington, DC, this 26th day of March 2007.
James S. Simpson,
Administrator, Federal Transit Administration.

[FR Doc. E7-5880 Filed 3-29-07; 8:45 am]

BILLING CODE 4910-57-P